INTERNATIONAL TRADE COMMISSION

[Investigation No. 337-TA-1315]

Certain Digital Set-Top Boxes and Systems and Services Including the Same; Notice of Commission Determination Not To Review an Initial Determination Terminating the Investigation Based on a Settlement Agreement; Termination of Investigation

AGENCY: U.S. International Trade Commission.

ACTION: Notice.

SUMMARY: Notice is hereby given that the U.S. International Trade Commission has determined not to review an initial determination (“ID”) (Order No. 26) of the presiding administrative law judge (“ALJ”) granting a joint motion to terminate the investigation as to the remaining respondents Altice USA, Inc. and CSC Holdings, LLC, both of Long Island City, New York, and Cablevision Systems Corp. of Bethpage, New York (collectively, “Altice”) based on a settlement agreement. The investigation is terminated.

FOR FURTHER INFORMATION CONTACT: Lynde Herzbach, Office of the General Counsel, U.S. International Trade Commission, 500 E Street SW, Washington, DC 20436, telephone (202) 205-3228. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On May 31, 2022, the Commission instituted this investigation under section 337 of the Tariff Act of 1930, as amended, 19 U.S.C. 1337 (“section 337”), based on a complaint filed by Broadband iTV, Inc., of Austin, Texas (“BBiTV”). See 87 FR 32459 (May 31, 2022). The complaint alleges a violation of section 337 based upon the importation into the United States, sale for importation, or sale after importation into the United States of certain set-top boxes and systems and services including the same by reason of infringement of certain claims of U.S. Patent Nos. 9,866,909; 9,936,240; 11,277,669; and 10,555,014 (“the '014 patent”). Id. The complaint further alleges that a domestic industry exists. Id. The notice of investigation names 10 respondents, including: Comcast Corporation and Comcast Cable Communications, LLC, both of Philadelphia, Pennsylvania, as well as NBCUniversal Media, LLC of Universal City, California (collectively, “the Comcast Respondents”); Charter Communications, Inc. of Stamford, Connecticut and Charter Communications Operating, LLC, Charter Communications Holding, Company, LLC, and Spectrum Management Holding, Company, LLC, all of St. Louis, Missouri (collectively “the Charter Respondents”); and Altice. Id. The Office of Unfair Import Investigations is not named as a party. Id.

The Commission previously terminated the investigation as to all asserted patent claims of the '014 patent based on BBiTV's partial withdrawal of the complaint. Order No. 18 (Sept. 9, 2022), unreviewed by Comm'n Notice (Oct. 3, 2022).

The Commission also previously terminated the Comcast Respondents and the Charter Respondents from the investigation based on partial withdrawal of the complaint. Order No. 23 (Oct. 18, 2022), unreviewed by Comm'n Notice (Nov. 14, 2022); Order No. 24 (Oct. 20, 2022), unreviewed by Comm'n Notice (Nov. 14, 2022).

On November 1, 2022, BBiTV and Altice filed a joint motion to terminate the investigation based on settlement. No response to the unopposed motion was filed.

On November 15, 2022, the presiding ALJ issued the subject ID (Order No. 26) granting the joint motion to terminate the investigation. The subject ID finds that the joint motion complies with Commission Rule 210.21(b)(1) (19 CFR 210.21(b)) and that no extraordinary circumstances prevent denying the motion. The ID also finds that termination of the investigation based on settlement would not be contrary to the public interest. No party petitioned for review of the subject ID.

The Commission has determined not to review the subject ID (Order No. 26). The investigation is terminated.

The Commission vote for this determination took place on December 14, 2022.

The authority for the Commission's determination is contained in section 337 of the Tariff Act of 1930, as amended (19 U.S.C. 1337), and in Part 210 of the Commission's Rules of Practice and Procedure (19 CFR Part 210).

By order of the Commission.
Issued: December 15, 2022.
Katherine Hiner,
Acting Secretary to the Commission.

[FR Doc. 2022-27662 Filed 12-20-22; 8:45 am]

BILLING CODE 7020-02-P